DEPARTMENT OF THE INTERIOR

Bureau of Land Management

[16X LLUTW000000 L14400000.FR0000 UTU-089791 24 1A]

Notice of Realty Action: Rosebud Parcel-Recreation and Public Purposes Act Classification for Conveyance of Public Lands in Box Elder County, UT

AGENCY: Bureau of Land Management, Interior.

ACTION: Notice.

SUMMARY: The Bureau of Land Management (BLM) has examined and found suitable for classification under Section 7 of the Taylor Grazing Act, and conveyance under the provisions of the Recreation and Public Purposes (R&PP) Act, as amended, 0.36 acres of public land in Box Elder County, Utah. The Utah Division of Wildlife Resources proposes to assume ownership of a 70 ft. wide by 221.56 ft.-long parcel of land with an existing building that has been used as field quarters for personnel and cooperators working in northwestern Box Elder County, Utah.

DATES: Comments regarding the proposed classification for conveyance of public land must be submitted to the Field Manager, Salt Lake Field Office, at the address below on or before October 6, 2016.

ADDRESSES: Written comments should be addressed to the Bureau of Land Management, Field Manager, Salt Lake Field Office, 2370 South Decker Lake Blvd., West Valley City, UT 84119. Comments may also be submitted by email at blm_ut_sl_comments@blm.gov or fax (801)977-4397. Please reference “Rosebud Parcel-Conveyance of Public Land to the State of Utah, Division of Wildlife Resources” on all correspondence.

FOR FURTHER INFORMATION CONTACT: Mary Higgins, Realty Specialist, Salt Lake Field Office, by phone (801) 977-4327, or by email at: mhiggins@blm.gov. Persons who use a telecommunications device for the deaf (TDD) may call the Federal Information Relay Service (FIRS) at 1-800-877-8339 to contact the above individual during normal business hours. The FIRS is available 24 hours a day, 7 days a week, to leave a message or question with the above individual. Replies are provided during normal business hours.

SUPPLEMENTARY INFORMATION: The following described public land has been examined and found suitable for classification for conveyance under the provisions of Section 7 of the Taylor Grazing Act 43 U.S.C., Sec. 315f, and the provisions of the R&PP Act as amended:

Salt Lake Meridian, Utah

T. 10 N., R. 15 W.,

Sec. 6, Lot 10.

The area described contains 0.36 acres.

The land is not needed for any Federal purpose and is not of national significance. Conveyance is consistent with the BLM Box Elder Resource Management Plan-May 1986, and would be in the public interest. The BLM conducted a Phase I Environmental Site Assessment in May 2014, and no hazardous substances, petroleum products, or recognized environmental conditions were identified on the parcel. The BLM posted the Environmental Assessment (EA) DOI-BLM-UT-W010-2014-0018-EA and an unsigned Finding of No Significant Impact on January 29, 2016, for a 30-day comment period. Comments will be considered before a final decision on the action is made. The conveyance document, if issued, would convey the surface estate of the United States, subject to the provisions of the R&PP Act and applicable regulations of the Secretary of the Interior and would contain the following reservations, terms and conditions:

1. A right-of-way thereon for ditches or canals constructed by authority of the United States pursuant to the Act of August 30, 1890, 43 U.S.C. 945.

2. An appropriate indemnification clause protecting the United States from claims arising out of the patentee's use, occupancy, or occupations on the patented lands.

3. The land conveyed shall revert to the United States upon a finding, after notice and opportunity for a hearing, that, without the approval of the Secretary of the Interior or his delegate, the patentee or its successor attempts to transfer title to or control over the lands to another, the lands have been devoted to a use other than that for which the lands were conveyed, the lands have not been used for the purpose for which the lands were conveyed for a 5-year period, or the patentee has failed to follow the approved development plan or management plan.

4. Any other terms or conditions that the Authorized Officer determines appropriate to ensure public access and proper management of the Federal land and interests therein. Detailed information concerning this proposed project, including, but not limited to documentation relating to compliance with applicable environmental and cultural resource laws, is available for review at the BLM-Utah Salt Lake Field Office at the address above.

The surface estate of the land described above was acquired by the United States in 1973 in an exchange pursuant to the Taylor Grazing Act, and the land has not been opened to appropriation under the public land laws. Publication of this notice serves to open the lands to disposition under the R&PP Act only.

Classification Comments: Interested parties may submit comments involving the suitability of the land for the proposed use. Comments on the classification are restricted to whether the land is physically suited for the proposal, whether the use will maximize the future use (or uses) of the land, whether the use is consistent with local planning and zoning, or whether the use is consistent with State and Federal programs.

Application Comments: Interested parties may submit comments regarding the specific use proposed in the application and management plan, and whether the BLM followed proper administrative procedures in reaching the decision to convey under the R&PP Act. The BLM-Utah State Director will review any adverse comments and may sustain, vacate or modify this realty action. In the absence of any adverse comments, the classification will become effective on October 21, 2016. The land will not be available for conveyance until after the decision becomes effective.

Before including your address, phone number, email address, or other personal identifying information in your comment, you should be aware that your entire comment—including your personal identifying information—may be made publicly available at any time. While you can ask us in your comment to withhold your personal identifying information from public review, we cannot guarantee that we will be able to do so.

Authority: 43 CFR 2741.5.

Jenna Whitlock,
Acting State Director.

[FR Doc. 2016-19972 Filed 8-19-16; 8:45 am]

BILLING CODE 4310-DQ-P